DEPARTMENT OF ENERGY

Federal Energy Regulatory Commission

[Project No. 14492-000]

Hydrodynamics, Inc.; Notice of Preliminary Permit Application Accepted for Filing and Soliciting Comments, Motions To Intervene, and Competing Applications

On February 1, 2013, Hydrodynamics, Inc. filed an application for a preliminary permit, pursuant to section 4(f) of the Federal Power Act (FPA), proposing to study the feasibility of the Ruby River Reservoir Water Power Project (project) to be located on the Ruby River, near Alder in Madison County, Montana. The sole purpose of a preliminary permit, if issued, is to grant the permit holder priority to file a license application during the permit term. A preliminary permit does not authorize the permit holder to perform any land-disturbing activities or otherwise enter upon lands or waters owned by others without the owners' express permission.

The proposed project would consist of the following: (1) An 846-foot-long, 111-foot-high earthen dam; (2) a reservoir with a surface area of 970 acres and a storage capacity of 36,663 acre-feet at a normal water surface elevation of 5,392 feet mean sea level; (3) a 180-foot-long, 84-inch-diameter concrete with steel liner penstock consisting of a concrete outlet tunnel works; (4) a 20-foot-long, 84-inch-diameter penstock extending from the tunnel to the powerhouse; (5) a powerhouse containing two generating units with a combined installed capacity of 2.3 megawatts; (6) a tailrace discharging flows into the Ruby River at the base of the dam; (7) a new substation; (8) a 2-mile-long, 15-kilovolt transmission line; and (9) appurtenant facilities. The proposed project would have an average annual generation of 10 gigawatt-hours.

Applicant Contact: Roger Kirk and Ben Singer, Hydrodynamics, Inc., P.O. Box 1136, Bozeman, Montana 59771; phone: (406) 587-5086.

FERC Contact: John Matkowski; phone: (202) 502-8576.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14492) in the docket number field to access the document. For assistance, contact FERC Online Support.

Dated: April 19, 2013.
Kimberly D. Bose,
Secretary.

[FR Doc. 2013-10166 Filed 4-29-13; 8:45 am]

BILLING CODE 6717-01-P